DEPARTMENT OF ENERGY

Federal Energy Regulatory Commission

[Docket Nos. OR08-14-000; OR10-1-000]

Cimmarron Gathering, L.P.; Parnon Gathering, Inc.; Notice of Request for Temporary Waiver of Tariff Filing and Reporting Requirements, and for Termination of Existing Waiver

November 18, 2009.

Take notice that on October 22, 2009, Cimmarron Gathering, LP, notified the Commission that it had sold to Parnon Gathering, Inc., (Parnon) the interstate crude oil pipeline subject to the Commission's grant of temporary waiver of sections 6 and 20 of the Interstate Commerce Act in Docket No. OR08-14-000.¹ Cimmarron requests that the Commission terminate, effective October 1, 2009, (i) the temporary waiver granted to Cimmarron in the Waiver Order and (ii) all further conditions and obligations imposed upon Cimmarron under the terms of the Waiver Order.

¹ Cimmarron Gathering, L.P., 126 FERC ¶ 61,017 (2009) (Waiver Order).

Also take notice that on October 22, 2009, Parnon Gathering, Inc. (Parnon), tendered for filing an application to be effective October 1, 2009, for temporary waiver of the filing and reporting requirements of section 6 and section 20 of the Interstate Commerce Act for the interstate crude oil pipeline that Cimmarron previously operated under the Waiver Order and that Parnon acquired from Cimmarron.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Wednesday, December 2, 2009.

Kimberly D. Bose,
Secretary.

[FR Doc. E9-28345 Filed 11-25-09; 8:45 am]

BILLING CODE 6717-01-P